DEPARTMENT OF HEALTH AND HUMAN SERVICES

Centers for Disease Control and Prevention

National Vaccine Advisory Committee/Vaccine Supply Conference Call

In accordance with section 10(a)(2) of the Federal Advisory Committee Act (Pub. L. 92-463), the Centers for Disease Control and Prevention (CDC) announces the following Federal Advisory Committee meeting.

Name: National Vaccine Advisory Committee (NVAC) Vaccine Supply Conference Call.

Time and Date: 11 a.m.-1 p.m., April 1, 2002.

Place: Audio Conference Call.

Status: This meeting is open to the public, telephone lines are limited. The public can join the meeting by Audio Conference Call by calling (888) 398-1687 and providing the following information:

Pass code: Peter.

Leaders Name: Dr. Georges Peter.

Purpose: This committee advises and makes recommendations to the Director of the National Vaccine Program on matters related to the Program responsibilities.

Matters To Be Discussed: To discuss recommendations from the NVAC Workshop on Strengthening the Vaccine Supply.

Agenda items are subject to change as priorities dictate.

Public comments will be permitted at the end of the NVAC meeting on April 1, 2002.

Contact Person for More Information: Gloria Sagar, Committee Management Specialist, NVPO, CDC, 4770 Buford Highway, M/S K-77, Atlanta, Georgia 30341, telephone (770)488-2040.

The Director, Management Analysis and Services Office, has been delegated the authority to sign Federal Register notices pertaining to announcements of meetings and other committee management activities for both the Centers for Disease Control and Prevention and the Agency for Toxic Substances and Disease Registry.

Dated: March 12, 2002.
Alvin Hall,
Acting Director, Management Analysis and Services Office, Centers for Disease Control and Prevention.

[FR Doc. 02-6681 Filed 3-19-02; 8:45 am]

BILLING CODE 4163-18-P